DEPARTMENT OF TRANSPORTATION

National Highway Traffic Safety Administration

[Docket No. NHTSA-2014-0056; Notice 2]

Chrysler Group LLC, Grant of Petition for Decision of Inconsequential Noncompliance

AGENCY: National Highway Traffic Safety Administration (NHTSA), Department of Transportation (DOT).

ACTION: Grant of petition.

SUMMARY: Chrysler Group LLC (Chrysler) ¹ has determined that certain model year (MY) 2013 and 2014 Fiat brand, 500e model, passenger cars do not fully comply with paragraph S5.4.1 of Federal Motor Vehicle Safety Standard (FMVSS) No. 101, Controls and Displays. Chrysler has filed an appropriate report dated April 1, 2014, pursuant to 49 CFR part 573, Defect and Noncompliance Responsibility and Reports. Chrysler then petitioned NHTSA under 49 CFR part 556 requesting a decision that the subject noncompliance is inconsequential to motor vehicle safety.

¹ Chrysler is a wholly owned subsidiary of the automaker Fiat S.p.A.

ADDRESSES: For further information on this decision contact John Finneran, Office of Vehicle Safety Compliance, National Highway Traffic Safety Administration (NHTSA), telephone (202) 366-5289, facsimile (202) 366-5930.

SUPPLEMENTARY INFORMATION:

I. Chrysler's Petition

Pursuant to 49 U.S.C. 30118(d) and 30120(h) and the rule implementing those provisions at 49 CFR part 556), Chrysler has petitioned for an exemption from the notification and remedy requirements of 49 U.S.C. Chapter 301 on the basis that this noncompliance is inconsequential to motor vehicle safety.

Notice of receipt of Chrysler's petition was published, with a 30-Day public comment period, on June 19, 2014 in the Federal Register (79 FR 35227). No comments were received. To view the petition and all supporting documents log onto the Federal Docket Management System (FDMS) Web site at: http://www.regulations.gov/. Then follow the online search instructions to locate docket number “NHTSA-2014-0056.”

II. Vehicles Involved

Affected are approximately 3,447 MY 2013 and 2014 Fiat brand, 500e model, passenger cars manufactured between March 21, 2013 and February 11, 2014 at Chrysler's Toluca Assembly Plant.

III. Noncompliance

Chrysler explains that the noncompliance is that the low tire pressure indicator telltale installed on the subject vehicles is orange in color rather than yellow as required by paragraph S5.4.1 of FMVSS No. 101.

IV. Rule Text

Paragraph S5.4 of FMVSS No. 101 requires in pertinent part:

S5.4 Color

S5.4.1 The light of each telltale listed in Table 1 must be of the color specified for that telltale in column 6 of that table.

V. Summary of Chrysler's Analyses

Chrysler stated that in the FMVSS No. 138 Final Rule (Federal Register Volume 70, Number 67 (April 8, 2005)) NHTSA indicated that the intent of a TPMS warning telltale is to notify the operator of safety consequences that do not constitute an emergency requiring immediate service. While the affected vehicles may display an orange TPMS telltale, Chrysler's position is the operator notification conveys the appropriate message to the operator when there is either significant tire under-inflation or a TPMS malfunction.

Chrysler's reasoning in support of the position is as follows:

• For the subject vehicles, if the TPMS telltale is illuminated and the operator does not understand its meaning, the TPMS telltale graphic is shown and described in the Introduction, Instrument Cluster Descriptions, and Starting and Operating sections of the vehicle owner's manual. An operator can easily refer to the owner's manual and determine the TPMS telltale relates to significant tire under-inflation or a TPMS malfunction. The owner's manual does not reference the color of the TPMS telltale, but rather that it “illuminates” in the event of low tire pressure and/or TPMS fault.

• In the event there is significant under-inflation of tires, the TPMS telltale is illuminated and the instrument cluster Electronic Vehicle Information Center (EVIC) will display a highlighted graphic of the locations including the pressure values of the affected tires.

• In the event there is a TPMS fault, the telltale will flash on and off for 75 seconds and then maintain a continuous illumination. The system fault will sound a chime and also display a “Service TPM System” message in the EVIC for approximately 3 seconds. This message contains the same symbol as the telltale. If the ignition switch is cycled, this sequence will repeat, providing the system fault still exists. If the system fault no longer exists, the TPMS telltale will no longer flash, and the “Service TPM System” message will no longer display.

In addition to the TPMS telltale alerting the operator of a significant loss of tire pressure, or a TPMS malfunction as required, the EVIC messages and owner's manual provide more than the minimum level of information required aiding the operator's association of the illuminated telltale with an appropriate response.

Chrysler also made reference to a previous petition for inconsequential noncompliance that addressed labeling issues that NHTSA granted.

Chrysler has additionally informed NHTSA that it has corrected the noncompliance so that all future production vehicles will comply with FMVSS No. 101.

In summation, Chrysler believes that the described noncompliance of the subject vehicles is inconsequential to motor vehicle safety, and that its petition, to exempt Chrysler from providing recall notification of noncompliance as required by 49 U.S.C. 30118 and remedying the recall noncompliance as required by 49 U.S.C. 30120 should be granted.

NHTSA'S Decision

NHTSA'S Analysis: Chrysler explained that if the TPMS telltale is illuminated and the operator does not understand its meaning, the operator can easily refer to the owner's manual and determine that the TPMS telltale relates to significant tire under-inflation or a TPMS malfunction. Chrysler also stated that the owner's manual does not reference the color of the TPMS telltale, but rather that it “illuminates” in the event of low tire pressure and/or TPMS fault.

NHTSA understands that many vehicle operators are not familiar with the standard TPMS telltale used in vehicles today. The agency anticipates that regardless of TPMS telltale color, yellow or orange, vehicle operators familiar with the telltale symbol will not be confused by the telltale color, and those not familiar with the telltale symbol will still have to reference the owner's manual to determine the meaning when illumination occurs.

Chrysler explained that in the event there is a significant low inflation pressure condition, the TPMS telltale will illuminate as required, and the instrument cluster Electronic Vehicle Information Center (EVIC) will display a highlighted graphic depicting locations and pressure values of affected tires.

The agency is in agreement with Chrysler that the information provided by the EVIC is in addition to the telltale required by the TPMS safety standard (FMVSS No. 138). The EVIC information and warnings will aid the vehicle operator in the recognition of low tire inflation pressure and TPMS system malfunctions.

For the reasons stated above, the agency concludes that in the case of the subject vehicles, the low tire pressure indicator telltales installed on the subject vehicles being orange in color rather than yellow poses little if any risk to motor vehicle safety.

NHTSA'S Decision: In consideration of the foregoing, NHTSA finds that Chrysler has met its burden of persuasion that the subject FMVSS No. 101 noncompliance in the subject vehicles is inconsequential to motor vehicle safety. Accordingly, Chrysler's petition is hereby granted and Chrysler is exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Chrysler no longer controlled at the time it determined that the noncompliance existed. However, the granting of this petition does not relieve Chrysler distributors and dealers of the prohibitions on the sale, offer for sale, or introduction or delivery for introduction into interstate commerce of the noncompliant vehicles under their control after Chrysler notified them that the subject noncompliance existed.

Authority: 49 U.S.C. 30118, 30120: delegations of authority at 49 CFR 1.95 and 501.8.

Jeffrey M. Giuseppe,
Director, Office of Vehicle Safety Compliance.

[FR Doc. 2016-07143 Filed 3-29-16; 8:45 am]

BILLING CODE 4910-59-P